DEPARTMENT OF TRANSPORTATION

Federal Highway Administration

Second Tier Environmental Impact Statement: Montgomery, Warren, Lincoln and St. Charles Counties, MO

AGENCY: Federal Highway Administration (FHWA), DOT.

ACTION: Notice of intent.

SUMMARY: The FHWA is issuing this notice to advise the public that a Second Tier Environmental Impact Statement (EIS) will be prepared for proposed improvements to a portion of Interstate 70 (identified as SIU #7) in Montgomery, Warren, Lincoln, and St. Charles Counties, Missouri.

FOR FURTHER INFORMATION CONTACT: Ms. Peggy J. Casey, Environmental Projects Engineer, FHWA Division Office, 209 Adams Street, Jefferson City, MO 65101, Telephone: (573) 638-2620 or Kathyrn P. Harvey, Project Development Liaison Engineer, Missouri Department of Transportation, 105 West Capitol Avenue, PO Box 270, Jefferson City, MO 65102, Telephone: (573) 526-5678.

SUPPLEMENTARY INFORMATION: The FHWA, in cooperation with the Missouri Department of Transportation (MoDOT), will prepare a Second Tier EIS to investigate possible improvements to a 36-mile section of Interstate 70 (I-70), from Milepost 174 (just west of Route 19) in Montgomery City, Missouri to the beginning of the existing six-lane section of I-70 immediately east of the Lake St. Louis Boulevard exit (Exit 214) in Lake St. Louis, Missouri. The study will include above five (5) miles on each side of existing I-70.

The I-70 First Tier EIS process was initiated in January 2000. Its purpose was to evaluate approaches to improving the safety and efficiency of travel on I-70 between suburban Kansas City and suburban St. Louis (approximately 200 miles). To meet these goals, seven strategies were evaluated. These strategies included (1) taking no action, (2) implementing transportation system management methods, (3) providing other modes of transportation, (4) upgrading and improving this section of the existing I-70, (5) constructing a new limited-access highway on new or partially-new location, and (6) implementing a combination of the above strategies. After detailed analysis and public review, widening and reconstructing the existing I-70 was identified as the preferred general approach to improving the interstate corridor. In July 2001, the Draft First Tier EIS was published. A 45-day comment period, which included seven public hearings, followed publication of the draft. In November 2001, the Final First Tier EIS was published, with a Record of Decision published in December 2001.

The First Tier EIS recommended that for the second tier environmental studies, the 200-mile I-70 corridor be divided into seven sections of independent utility (SIU). The intent of the Second Tier EIS is to build on and extend the work of the first tier EIS for improving I-70 as part of the state's long-range transportation plan. Each SIU will be evaluated to the appropriate level of detail (CE, EA, or EIS) within the NEPA process.

Given the current and projected traffic volumes, and the dated design of existing I-70 (Some portions date from as early as 1956 as the first construction in the United States on the interstate highway system), improvements to the I-70 corridor are considered critical to provide for a safe, efficient, and economical transportation network that will meet traffic demands in the state and for national travelers. As such, the range of alternatives carried forward from the first Tier EIS has been expanded for SIU #7. At the easternmost end of the study area, three conceptual corridors (two north and one to the south) were developed and will be further studied as potential locations for a relocated I-70, along with the alternative of widening and reconstructing the existing highway. These conceptual corridors will be further examined based on the need to reduce traffic congestion, address roadway deficiencies, improve safety, and enhance system linkage in the St. Louis metropolitan area.

For the second tier effort, a scoping process has been initiated that involves all appropriate federal and state agencies. This coordination will continue throughout the study as an ongoing process. An intensive public information effort will be initiated, and will include those agencies, private organizations, and citizens that have previously expressed or are known to have interest in this proposal. This effort also will inform the public living in the study area and those who travel on this section of I-70 from across the nation with the intent of capturing their comments for and about the study. Public informational meetings will be held across the study area to engage the regional community in the decision-making process and to obtain public comment. In addition, a public hearing will be held to present the findings of the Second Tier Draft EIS (DEIS). Public notice will be given concerning the time and place of informational meetings and public hearings. The Second Tier DEIS will be available for public and agency review and comment prior to the public hearings.

To ensure that the full range of issues related to this proposed action are addressed and all significant issues are identified, comments, and suggestions are invited from all interested parties. Comments or questions concerning this proposed action and the Second Tier EIS for SIU #7 should be directed to the FHWA or MoDOT at the addresses previously provided.

(Catalog of Federal Domestic Assistance Program Number 20.205, Highway Planning and Construction. The regulations implementing Executive Order 12372 regarding intergovernmental consultation on Federal programs and activities apply to this program.)

Issued on: April 25, 2002.
Peggy J. Casey,
Environmental Project Engineer, Jefferson City.

[FR Doc. 02-11766 Filed 5-9-02; 8:45 am]

BILLING CODE 4910-22-M